DEPARTMENT OF LABOR

Employment and Training Administration

[TA-W-55,688]

California Manufacturing Company, California, MO; Notice of Termination of Investigation

Pursuant to Section 221 of the Trade Act of 1974, as amended, an investigation was initiated on September 27, 2004, in response to a petition filed by an employee on behalf of workers at California Manufacturing Company, California, Missouri.

The petition regarding the investigation has been deemed invalid. In order to establish a valid worker group, there must be at least three full-time workers employed at some point during the period under investigation. One employee does not meet this threshold level of employment. Consequently, the investigation has been terminated.

Signed at Washington, DC this 27th day of September, 2004.
Elliott S. Kushner,
Certifying Officer, Division of Trade Adjustment Assistance.

[FR Doc. 04-22804 Filed 10-8-04; 8:45 am]

BILLING CODE 4310-30-U